DEPARTMENT OF COMMERCE

National Oceanic and Atmospheric Administration

Proposed Information Collection; Comment Request; Environmental Compliance Questionnaire for National Oceanic and Atmospheric Administration Federal Financial Assistance Applicants

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 13, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Steve Kokkinakis, (240) 533-9021 or Steve.Kokkinakis@noaa.gov.

SUPPLEMENTARY INFORMATION:

I. Abstract

This request is for a revision and extension of a currently approved information collection. The National Environmental Policy Act (“NEPA”; 42 U.S.C. §§ 4321-4370) requires federal agencies to complete an environmental analysis for all major federal actions, including funding non-federal projects through federal financial assistance awards where Federal participation in the funded activity is expected to be significant. This Environmental Compliance Questionnaire for National Oceanic and Atmospheric Administration Federal Financial Assistance Applicants (Questionnaire) is used by the National Oceanic and Atmospheric Administration (NOAA) to collect information about proposed activities for NEPA and other environmental compliance requirements associated with proposed projects, such as federal consultations. The Questionnaire is used in conjunction with NOAA Funding Opportunity Announcements (FOA). Applicants are required to provide only the information from this Questionnaire that is specified in the FOA to which they are applying. The FOA may present these questions in one of two ways: (1) The applicable questions can be inserted directly into the FOA with reference to the OMB Control Number (0648-0538) for this form; or (2) The FOA can specify which questions (e.g. 1, 2) an applicant must answer, with the entire OMB-approved Questionnaire attached to the FOA. This Questionnaire has been revised to (1) remove repetitive questions; (2) revise specific questions to use plain language instead of NEPA-specific language; and (3) add questions that would be helpful to a wider range of NOAA programs. The revision reduced the overall number of questions by 22.

II. Method of Collection

The information may be submitted electronically or on paper (faxed or mailed).

III. Data

OMB Control Number: 0648-0538.

Form Number(s): None.

Type of Review: Regular submission (revision and extension of a currently approved information collection).

Affected Public: Individuals or households; business or other for-profit organizations; not-for-profit institutions; state, local, or tribal government; and federal government.

Estimated Number of Respondents: 1,000.

Estimated Time per Response: 3 hours.

Estimated Total Annual Burden Hours: 3,000.

Estimated Total Annual Cost to Public: $1,000 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 8, 2015.
Sarah Brabson,
NOAA PRA Clearance Officer.

[FR Doc. 2015-11568 Filed 5-12-15; 8:45 am]

BILLING CODE 3510-NW-P